FEDERAL COMMUNICATIONS COMMISSION

47 CFR Part 73

[DA 04-3611; MB Docket No. 04-205, RM-10704]

Radio Broadcasting Service; Islamorada, FL

AGENCY: Federal Communications Commission.

ACTION: Final rule.

SUMMARY: The Audio Division, at the request of Paul B. Christensen, Esquire, allots Channel 283C2 at Islamorada, Florida, as the community's first local aural transmission service. See 69 FR 34114, published June 18, 2004. Channel 283C2 can be allotted to Islamorada in compliance with the Commission's minimum distance separation requirements, provided there is a site restriction of 0.9 kilometers (0.6 miles) southwest of the community. The reference coordinates for Channel 283C2 at Islamorada are 24-55-05 North Latitude and 80-38-04 West Longitude. A filing window for Channel 283C2 at Islamorada, Florida will not be opened at this time. Instead, the issue of opening a filing window for this channel will be addressed by the Commission in a subsequent order.

DATES: Effective January 6, 2005.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 04-205, adopted November 17, 2004, and released November 22, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Florida, is amended by adding Islamorada, Channel 283C2.

Federal Communications Commission.
John A. Karousos,
Assistant Chief, Audio Division, Media Bureau.

[FR Doc. 04-27040 Filed 12-8-04; 8:45 am]

BILLING CODE 6712-01-P